DEPARTMENT OF DEFENSE

Department of the Navy

Notice of Intent To Prepare an Environmental Impact Statement/Overseas Environmental Impact Statement for Disposal of Decommissioned, Defueled Ex-Enterprise (CVN 65) and Its Associated Naval Reactor Plants and To Announce Public Scoping Meetings

AGENCY: Department of the Navy, DoD

ACTION: Notice.

SUMMARY: Pursuant to Section 102(2)(c) of the National Environmental Policy Act (NEPA) of 1969, as implemented by the Council on Environmental Quality, and Presidential Executive Order 12114, the Department of the Navy (DON) announces its intent to prepare an Environmental Impact Statement/Overseas Environmental Impact Statement (EIS/OEIS) to evaluate the potential environmental impacts associated with the disposal of the decommissioned, defueled ex-Enterprise (CVN 65), including its associated reactor plants. The proposed action executes the Chief of Naval Operations (CNO) policy for inactive ships stricken from the Naval Vessel Register and designated for disposal by dismantling in order to reduce the Navy's inactive ship inventory and eliminate costs associated with maintaining the ship in a safe stowage condition.

DATES: The 45-day public scoping period begins May 31, 2019 and ends July 15, 2019. Public scoping meetings will be held on June 18, 20, 25, and 27, 2019. All public comments are due by July 15, 2019.

ADDRESSES: The public scoping meetings will be held at the following locations (all times local):

1. June 18, 2019, 5:00 p.m. to 8:00 p.m., Denbigh Community Center, 15198 Warwick Boulevard, Newport News, VA 23608-2631.

2. June 20, 2019, 5:00 p.m. to 8:00 p.m., Fort Brown Memorial Center, 600 International Boulevard, Brownsville, TX 78520-5738.

3. June 25, 2019, 5:00 p.m. to 8:00 p.m., Mountain View Middle School, 2400 Perry Avenue, Bremerton, WA 98310-5139.

4. June 27, 2019, 5:00 p.m. to 8:00 p.m., Richland Public Library, 955 Northgate Drive, Richland, WA 99352-3505.

Comments may be provided at the public scoping meetings, by mail, and through the project website at: https://www.CarrierDisposalEIS.com. Mailed comments must be postmarked no later than July 15, 2019 and mailed to the address: Puget Sound Naval Shipyard and Intermediate Maintenance Facility, 1400 Farragut Avenue, Bremerton, WA 98314-5001, Attn: Kellie M. Randall, Public Affairs Officer, CVN65 EIS, for consideration in the Draft EIS/OEIS preparation. The DON is requesting public comments on the scope of the analysis, including potential environmental issues and viable alternatives to be considered during the development of the Draft EIS/OEIS.

The scoping meetings will consist of an informal, open house session with informational poster stations staffed by DON representatives. Meeting details will be announced in local area newspapers. Additional information on the public scoping meetings and comment submittal will be available on the project website at: https://www.CarrierDisposalEIS.com.

FOR FURTHER INFORMATION CONTACT: Puget Sound Naval Shipyard and Intermediate Maintenance Facility, 1400 Farragut Avenue, Bremerton, WA 98314-5001, Attn: Kellie M. Randall, Public Affairs Officer, CVN65 EIS, 360-476-7111, or project website: https://www.CarrierDisposalEIS.com.

SUPPLEMENTARY INFORMATION: The DON's action proponent is the Director, Naval Nuclear Propulsion (CNO N00N). The Department of Energy (DOE) is a cooperating agency in the preparation of the EIS/OEIS. The proposed action is to dispose of the decommissioned, defueled ex-Enterprise (CVN 65) aircraft carrier, including its reactor plants. The proposed action would entail dismantling and recycling the non-radioactive hull sections of the ex-Enterprise at a designated facility in accordance with applicable Federal, state and local laws, and the removal and packaging of the ex-Enterprise reactor plants for transportation and disposal as low-level radioactive waste to authorized radioactive waste burial ground(s). The removal of nuclear fuel from the ex-Enterprise reactor plants has already taken place and is not part of the proposed action. The disposal of the ex-Enterprise is needed to comply with CNO policy for inactive ships stricken from the Naval Vessel Register and with the Naval Nuclear Propulsion Program's statutory responsibilities under 50 U.S.C. 2406 and 2511. The purpose of the proposed action is to reduce the U.S. Navy inactive ship inventory, eliminate costs associated with maintaining the ship in a safe stowage condition, and to dispose of legacy radiological and hazardous wastes in an environmentally responsible manner, while meeting the operational needs of the United States Navy.

The DON, in coordination with the DOE as a cooperating agency, prepared a Final Environmental Assessment (EA) entitled, “Disposal of Decommissioned, Defueled Naval Reactor Plants from USS ENTERPRISE (CVN 65)” dated August 2012. In the Finding of No Significant Impact, the Navy decided to remove the reactor compartments from ex-Enterprise at Puget Sound Naval Shipyard and Intermediate Maintenance Facility (PSNS & IMF), prepare the reactor compartments for disposal as reactor compartment packages, recycle non-radioactive hull sections, and transport the reactor compartment packages for disposal at the DOE Hanford Site near Richland, Washington. The DON has since identified new preliminary alternatives that could address the disposal of the ex-Enterprise.

DON is preparing this EIS/OEIS to consider these preliminary alternatives and potentially others that may be identified during the EIS/OEIS scoping process. The DON is considering the following preliminary alternatives to satisfy the purpose and need:

Alternative 1—Partial dismantlement of ex-Enterprise at an authorized commercial dismantlement facility by removing areas of the ship outside the naval reactor compartments. The remainder of the ship containing the naval reactor compartments would then be transported to PSNS & IMF to prepare eight single reactor compartment packages for disposal at DOE Hanford Trench 94. This alternative is an extension of the reactor plant disposal program at PSNS & IMF as discussed in the 2012 EA.

Alternative 2—Partial dismantlement of ex-Enterprise at an authorized commercial dismantlement facility by removing areas of the ship outside the naval reactor compartments. The remainder of the ship containing the naval reactor compartments would then be transported to PSNS & IMF to prepare four reactor compartment packages for disposal at DOE Hanford Trench 94. Each package would contain two of the ship's eight reactor plants.

Alternative 3—Dismantlement of the ex-Enterprise at an authorized commercial dismantlement facility, including cutting apart the eight reactor plants into segments for packaging into several hundred small containers that meet Department of Transportation requirements for subsequent disposal at either a DOE and/or commercial low-level radioactive waste facility.

Alternative 4—No action. Under the no action alternative, the defueled ex-Enterprise would be stored waterborne. The vessel would require periodic maintenance to ensure that storage continues in a safe and environmentally responsible manner.

DON will evaluate the potential environmental impacts from the no action alternative and identified action alternatives. DON will analyze potential impacts on environmental resources resulting from activities included in identified alternatives in accordance with 40 CFR 1502.16. Direct, indirect, and cumulative impacts will be analyzed.

Ship dismantlement activities will be performed in accordance with all applicable Federal, state, and local environmental laws and regulations, occupational safety and health laws and regulations, and in accordance with the Naval Nuclear Propulsion Program's statutory responsibilities under 50 U.S.C. 2406 and 2511.

The scoping process is helpful in identifying public concerns and local issues to be considered during the development of the EIS/OEIS. Federal, state, and local agencies; federally recognized tribes; non-governmental organizations; and interested persons are encouraged to provide substantive comments to the DON on potential impacts to environmental resources. All substantive comments provided orally, electronically, or in writing at the scoping meetings, submitted via the project website, or mailed to the address provided in the FOR FURTHER INFORMATION CONTACT section will be taken into consideration during the development of the EIS/OEIS.

Dated: May 23, 2019.
M.S. Werner,
Commander, Judge Advocate General's Corps, U.S. Navy, Federal Register Liaison Officer.

[FR Doc. 2019-11221 Filed 5-30-19; 8:45 am]

BILLING CODE 3810-FF-P